DEPARTMENT OF DEFENSE

Office of the Secretary

Defense Science Board

AGENCY: Department of Defense.

ACTION: Notice of Advisory Committee Meetings.

SUMMARY: The Defense Science Board Task Force on Developmental Test and Evaluation will meet in closed session on August 22-23, 2007 and September 19-20, 2007 at Science Applications International Corporation (SAIC), 4001 N. Fairfax Drive, Arlington, VA. These meetings will examine Test & Evaluation roles and responsibilities, policy and practices, and recommend changes that may contribute to improved success in Initial Operational Test and Evaluation along with quicker delivery of improved capability and sustainability to Warfighters.

The mission of the Defense Science Board is to advise the Secretary of Defense and the Under Secretary of Defense for Acquisition, Technology & Logistics on scientific and technical matters as they affect the perceived needs of the Department of Defense. At these meetings, the Defense Science Board Task Force will assess: OSD organization roles and responsibilities for T&E oversight; changes required to establish statutory authority for OSD DT&E oversight, and recommend improvements in the DT&E process to discover sustainability problems earlier, and thus improve likelihood of operational sustainability in IOT&E.

The task force's findings and recommendations, pursuant to 41 CFR 102-3.140 through 102-3.165, will be presented and discussed by the membership of the Defense Science Board prior to being presented to the Government's decisionmaker.

Pursuant to 41 CFR 102-3.120 and 102-3.150, the Designated Federal Officer for the Defense Science Board will determine and announce in the Federal Register when the findings and recommendations of the May 31, 2007 meeting are deliberated by the Defense Science Board.

Interested persons may submit a written statement for consideration by the Defense Science Board. Individuals submitting a written statement must submit their statement to the Designated Federal Official at the address detailed below, at any point, however, if a written statement is not received at least 10 calendar days prior to the meeting, which is the subject of this notice, then it may not be provided to or considered by the Defense Science Board. The Designated Federal Official will review all timely submissions with the Defense Science Board Chairperson, and ensure they are provided to members of the Defense Science Board before the meeting that is the subject of this notice.

FOR FURTHER INFORMATION CONTACT: MAJ Chad Lominac, USAF, Defense Science Board, 3140 Defense Pentagon, Room 3C553, Washington, DC 20301-3140, via e-mail at charles.lominac@osd.mil, or via phone at (703) 571-0081.

Dated: July 23, 2007.
L.M. Bynum,
OSD Federal Register, Liaison Officer, Department of Defense.

[FR Doc. 07-3700 Filed 7-27-07; 8:45 am]

BILLING CODE 5001-06-M